DEPARTMENT OF ENERGY

Federal Energy Regulatory Commission

[Docket No. RP03-52-000]

Algonquin Gas Transmission Company; Notice of Proposed Changes in FERC Gas Tariff

November 4, 2002.

Take notice that on October 31, 2002, Algonquin Gas Transmission Company (Algonquin) tendered for filing as part of its FERC Gas Tariff, Fourth Revised Volume No. 1, Thirteenth Revised Sheet No. 40, to become effective on December 1, 2002.

Algonquin is filing to revise its Fuel Reimbursement Percentages (FRPs) for the calendar period beginning December 1, 2002, pursuant to Section 32 of the General Terms and Conditions of its FERC Gas Tariff. Algonquin states that, based on the latest actual annual data for Company Use Gas and throughput quantities for the twelve month period ending July 31, 2002, the FRP for the Winter period has increased by 0.8%, and by 0.06% for the non-Winter period.

Algonquin further states that it is submitting the calculation of the deferral allocation pursuant to Section 32.5(c) which provides that Algonquin will calculate surcharges or refunds designed to amortize the net monetary value of the balance in the FRQ Deferred Account at the end of the previous accumulation period.

Algonquin states that, for the period August 1, 2001 through July 31, 2002, the FRQ Deferred Account resulted in a net debit balance that will be recovered as a surcharge to Algonquin's customers, based on the allocation of the account balance over the actual throughput quantities during the accumulation period, exclusive of backhauls.

Algonquin states that copies of this filing were mailed to all affected customers of Algonquin and interested state commissions.

Any person desiring to be heard or to protest said filing should file a motion to intervene or a protest with the Federal Energy Regulatory Commission, 888 First Street, NE, Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-28599 Filed 11-8-02; 8:45 am]

BILLING CODE 6717-01-P